DEPARTMENT OF HEALTH AND HUMAN SERVICES

Indian Health Service

25 CFR Part 900

Contracts Under the Self-Determination and Education Assistance Act; Change of Address for the Claims Branch

AGENCY: Indian Health Service (IHS).

ACTION: Final Rule; change of address.

SUMMARY: The Indian Health Service is amending its regulations governing contracts under the Indian Self-Determination and Education Assistance Act to reflect a change of address due to the relocation of the Claims Branch.

DATES: This rule change is effective September 17, 2007.

FOR FURTHER INFORMATION CONTACT: Hankie Ortiz, Acting Director, Division of Regulatory Affairs, IHS, 801 Thompson Avenue, Twinbrook Metro Plaza, Suite 450, Rockville, Maryland 20852, Telephone (301) 443-1116.

SUPPLEMENTARY INFORMATION:

I. Background

Regulations promulgated by the IHS to govern the administration of contracts under the Indian Self-Determination and Education Assistance Act reference a mailing address for the Claims Branch. The Claims Branch has moved its office to a new location. This action provides the new mailing address for filing medical-related claims with the Claims Branch.

II. Procedural Requirements

A. Determination To Issue Final Rule Effective in Less than 30 Days

IHS has determined that the public notice and comment provisions of the Administrative Procedure Act, 5 U.S.C. 553(b) do not apply to this rulemaking. The changes being made relate solely to procedure and practice. The changes therefore, meet the requirements for exemption from notice and comment in 5 U.S.C. 553(b)(A).

B. Review Under Procedural Statutes and Executive Orders

IHS has reviewed this rule under the following statutes and Executive Orders governing rulemaking procedures: The Unfunded Mandates Reform Act of 1995, 2 U.S.C. 1501 et seq.; the Regulatory Flexibility Enforcement Act, 5 U.S.C. 601 et seq.; the Small Business Regulatory Enforcement Fairness Act of 1996, 5 U.S.C. 801 et seq.; the Paperwork Reduction Act, 4 U.S.C. 3501 et seq.; Executive Order 12630 (Takings); Executive Order 12866 (Regulatory Planning and Review); Executive Order 12988 (Civil Justice Reform); Executive Order 13132 (Federalism); Executive Order 13175 (Tribal Consultation); and Executive Order 13211 (Energy Impacts). IHS has determined that this rule does not trigger any of the procedural requirements of those statutes and Executive Orders, since this rule is technical in nature and merely changes the mailing address for the Claims Branch.

List of Subjects in 25 CFR Part 900

Administrative practice and procedure, Buildings and facilities, Claims, Government contracts, Government property management, Grant programs—Indians, Health care, Indians, Indians—business and finance.

For the reasons stated in the preamble, IHS amends its regulation in 25 CFR Part 900 as follows:

PART 900—FEDERAL TORT CLAIMS ACT COVERAGE GENERAL PROVISIONS PROCEDURE FOR FILING MEDICAL-RELATED CLAIM

1. The authority citation for part 900 continues to read as follows:

Authority: 25 U.S.C. 450f et seq.

§ 900.201 [Amended]

2. Section 900.201 is amended by removing “Chief, PHS Claims Branch, Room 18-20, Parklawn Building, 5600 Fishers Lane, Rockville, MD 20857” and adding in its place Office of the General Counsel, General Law Division, Claims Office, 330 Independence Avenue, SW, Room 4256, Wilbur J. Cohen Federal Building, Washington, DC 20201.”

Dated: September 5, 2007.
Robert G. McSwain,
Deputy Director, Indian Health Service.

[FR Doc. 07-4585 Filed 9-14-07; 8:45 am]

BILLING CODE 4165-16-M